DEPARTMENT OF TRANSPORTATION

Office of the Secretary

Aviation Proceedings, Agreements Filed the Week Ending October 21, 2005

The following Agreements were filed with the Department of Transportation under the sections 412 and 414 of the Federal Aviation Act, as amended (49 U.S.C. 1382 and 1384) and procedures governing proceedings to enforce these provisions. Answers may be filed within 21 days after the filing of the application.

Docket Number: OST-2005-22741.

Date Filed: October 17, 2005.

Parties: Members of the International Air Transport Association.

Subject: TC23/123 Passenger Tariff Coordinating Conferences. Geneva and Teleconference, 26-28 September 2005. TC23/123 Europe-South East Asia Expedited Resolution 002ap. Intended effective date: 15 December 2005.

Docket Number: OST-2005-22743.

Date Filed: October 17, 2005.

Parties: Members of the International Air Transport Association.

Subject: TC23/123 Passenger Tariff Coordinating Conferences. Geneva and Teleconference, 26-28 September 2005. TC23/123 Europe-South East Asia Expedited Resolution 002ap. Intended effective date: 15 December 2005.

Docket Number: OST-2005-22744.

Date Filed: October 17, 2005.

Parties: Members of the International Air Transport Association.

Subject: MAIL VOTE NUMBER S 083. RP 724c Notice of Liability Limitations—Neutral Air. Carrier Liability for Passengers and their Baggage—EC. Regulation 889/2002. Intended effective date: 1 November 2005.

Renee V. Wright,
Program Manager, Docket Operations, Federal Register Liaison.

[FR Doc. 05-22021 Filed 11-3-05; 8:45 am]

BILLING CODE 4910-62-P